DEPARTMENT OF ENERGY

Federal Energy Regulatory Commission

Combined Notice of Filings

Take notice that the Commission has received the following Natural Gas Pipeline Rate and Refund Report filings:

Filings Instituting Proceedings

Docket Numbers: RP13-421-000.

Applicants: Columbia Gas Transmission, LLC.

Description: Columbia Gas Transmission, LLC submits Penalty Revenue Crediting Report for 2011-2012 contract year.

Filed Date: 12/28/12.

Accession Number: 20121228-5107.

Comments Due: 5 p.m. ET 1/9/13.

Docket Numbers: RP13-422-000.

Applicants: Columbia Gulf Transmission Company.

Description: Columbia Gulf Transmission Company's submits Penalty Revenue Crediting Report for 2011-2012 contract year.

Filed Date: 12/28/12.

Accession Number: 20121228-5117.

Comments Due: 5 p.m. ET 1/9/13.

Docket Numbers: RP13-423-000.

Applicants: Rockies Express Pipeline LLC.

Description: Reservation Charge Credits to be effective 2/1/2013.

Filed Date: 12/28/12.

Accession Number: 20121228-5121.

Comments Due: 5 p.m. ET 1/9/13.

Docket Numbers: RP13-424-000.

Applicants: Central Kentucky Transmission Company.

Description: Central Kentucky Transmission Company submits Penalty Revenue Crediting Report for 2011-2012 contract year.

Filed Date: 12/28/12.

Accession Number: 20121228-5123.

Comments Due: 5 p.m. ET 1/9/13.

Docket Numbers: RP13-425-000.

Applicants: Crossroads Pipeline Company.

Description: Crossroads Pipeline Company submits Penalty Revenue Crediting Report for 2011-2012 contract year.

Filed Date: 12/28/12.

Accession Number: 20121228-5124.

Comments Due: 5 p.m. ET 1/9/13.

Docket Numbers: RP13-426-000.

Applicants: Leaf River Energy Center LLC.

Description: Leaf River Energy Center LLC—Tariff Modifications to Add FSS Overrun Services to be effective 2/1/2013.

Filed Date: 12/28/12.

Accession Number: 20121228-5125.

Comments Due: 5 p.m. ET 1/9/13.

Docket Numbers: RP13-427-000.

Applicants: Iroquois Gas Transmission System, L.P.

Description: 12/28/12 Negotiated Rates—Citigroup Energy (RTS) Amend 2 to be effective 1/1/2013.

Filed Date: 12/28/12.

Accession Number: 20121228-5147.

Comments Due: 5 p.m. ET 1/9/13.

Docket Numbers: RP13-428-000.

Applicants: Iroquois Gas Transmission System, L.P.

Description: 12/31/12 Negotiated Rates—United Energy Trading, LLC—(HUB) 5095-89 to be effective 12/29/2012.

Filed Date: 12/31/12.

Accession Number: 20121231-5049.

Comments Due: 5 p.m. ET 1/14/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Dated: December 31, 2012.
Nathaniel J. Davis, Sr.,
Deputy Secretary.

[FR Doc. 2013-00404 Filed 1-10-13; 8:45 am]

BILLING CODE 6717-01-P